DEPARTMENT OF THE INTERIOR

Bureau of Land Management

[L16100000 DS0000 LXSS036E0000 20X LLMTC020000]

Notice of Availability of the Proposed Amendment to the Approved Resource Management Plan for the Miles City Field Office, Montana, and the Associated Final Supplemental Environmental Impact Statement

AGENCY: Bureau of Land Management, Interior.

ACTION: Notice of availability.

SUMMARY: In accordance with the National Environmental Policy Act of 1969 (NEPA), as amended, and the Federal Land Policy and Management Act of 1976, as amended, the Bureau of Land Management (BLM) Montana Miles City Field Office has prepared a Proposed Resource Management Plan (RMP) Amendment and Final Supplemental Environmental Impact Statement (EIS) for the 2015 Miles City Field Office Approved RMP. This effort is in response to a United States District Court of Montana opinion and order (Western Organization of Resource Councils, et al. v. BLM; 3/26/2018 and 7/31/2018). By this notice, the BLM is announcing the opening of the protest period.

DATES: To ensure that a protest will be considered, the BLM must receive any protests on the Proposed RMP Amendment on or before the 30th day following the date the Environmental Protection Agency publishes its Notice of Availability of the Final Supplemental EIS in the Federal Register.

ADDRESSES: Copies of the Proposed RMP Amendment and Final Supplemental EIS are available at the Miles City Field Office, 111 Garryowen Road, Miles City, MT 59301, or may be viewed online at: https://go.usa.gov/xmbE4. All protests on the Proposed RMP Amendment must be in writing and submitted by any of the following methods:

Website: https://go.usa.gov/xmbE4.

Regular Mail: BLM Director (210), Attention: Protest Coordinator, P.O. Box 71383, Washington, DC 20024-1383.

Overnight Delivery: BLM Director (210), Attention: Protest Coordinator, 20 M Street SE, Room 2134LM, Washington, DC 20003.

FOR FURTHER INFORMATION CONTACT: Irma Nansel, RMP Supplemental EIS Project Manager, Miles City Field Office, telephone: (406) 233-3653, email: inansel@blm.gov. Persons who use a telecommunications device for the deaf (TDD) may call the Federal Service (FRS) at 1-800-877-8339 to contact the above individual during normal business hours. The FRS is available 24 hours a day, 7 days a week, to leave a message or question with the above individual. You will receive a reply during normal business hours.

SUPPLEMENTARY INFORMATION: The 2015 Miles City Approved RMP provides a single, comprehensive land use plan that guides management of BLM-administered lands and minerals in the Miles City Field Office, which consists of approximately 2.7 million acres of BLM surface land and 10.6 million acres of BLM mineral estate across 17 counties in eastern Montana.

Based on the earlier-referenced court decision; feedback from cooperating agencies and stakeholders; and public scoping, the BLM developed and analyzed a No Action Alternative and two Action Alternatives, which are detailed in the Final Supplemental EIS.

The No Action Alternative represents the decision area from the 2015 RMP and brings forward all management decisions that precluded coal development in the 2015 RMP. It relies on the decisions from the 1985 Power River RMP and 1996 Big Dry RMP coal screening process. The No Action Alternative includes a total area of approximately 1,581,240 acres available for further consideration for leasing of BLM-administered coal.

The Action alternatives applied the coal screens (43 CFR 3420.1-4(e)) using current data and evaluates the issues identified through internal and public scoping. The Action alternatives also address the NEPA deficiencies identified by the court order associated with the application of the multiple use screen. Alternative B considers the development of air resources as a multiple use screen in accordance with the Clean Air Act. Alternative C applies an air resource multiple use screen that encompasses greenhouse gas emission criteria limited to coal development tied to existing mining areas. Based on these factors, Alternative B contains approximately 1,214,380 acres acceptable for further consideration for leasing of BLM-administered coal; and Alternative C contains approximately 158,400 acres acceptable for further consideration for leasing of BLM-administered coal.

The BLM revised the reasonable foreseeable development scenario used in the 2015 Miles City RMP using current coal production from existing mines to forecast development over the 20-year planning period. The revised scenario was applied to all alternatives.

Before including your address, phone number, email address, or other personal identifying information in your comment, you should be aware that your entire comment—including your personal identifying information—may be made publicly available at any time. While you can ask us in your comment to withhold your personal identifying information from public review, the BLM cannot guarantee that it will be able to do so.

(Authority: 40 CFR 1506.6 and 43 CFR 1610.2)

John Mehlhoff,
State Director.

[FR Doc. 2019-21558 Filed 10-3-19; 8:45 am]

BILLING CODE 4310-DN-P